DEPARTMENT OF DEFENSE

Department of the Army

[Docket ID: USA-2023-HQ-0009]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by June 5, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Understanding Soldiers' Experiences with Sexual Harassment and Gender Discrimination; DoD-wide Data Collection and Analysis for the Department of Defense Qualitative and Quantitative Data Collection in Support of the Independent Review Commission on Sexual Assault Recommendations; OMB Control Number 0704-0644.

Type of Request: New.

Junior Focus Groups

Number of Respondents: 500.

Responses per Respondent: 1.

Annual Responses: 500.

Average Burden per Response: 60 minutes.

Annual Burden Hours: 500.

Mid-Level Focus Groups

Number of Respondents: 500.

Responses per Respondent: 1.

Annual Responses: 500.

Average Burden per Response: 60 minutes.

Annual Burden Hours: 500.

Senior Focus Groups

Number of Respondents: 320.

Responses per Respondent: 1.

Annual Responses: 320.

Average Burden per Response: 60 minutes.

Annual Burden Hours: 320.

Installation Commander Focus Groups

Number of Respondents: 6.

Responses per Respondent: 1.

Annual Responses: 6.

Average Burden per Response: 30 minutes.

Annual Burden Hours: 3.

Total

Number of Respondents: 1,326.

Annual Responses: 1,326.

Annual Burden Hours: 1,323.

Needs and Uses: This study will use focus groups discussions with Soldiers and leaders (i.e., Soldiers in command positions) to gain a deeper understanding of what Soldiers actually experience during sexual harassment (SH) and gender discrimination (GD) events than can be gleaned from quantitative survey data. Focus group discussions will focus on environmental factors that contribute to SH/GD, including the general climate and culture in Army units that may contribute to or prevent these behaviors from occurring. Results of this study will help the Army to identify critical gaps in current prevention training efforts and materials from a diverse range of perspectives (i.e., inclusive of differing rank/grade levels, by gender).

Analysis of qualitative data collected through focus group discussions will produce foundational knowledge to enable evidence-based implementation of the Independent Revision Commission on Sexual Assault in the Military (IRC) Recommendations 2.3 (“Implement community-level prevention strategies unique to Service members' environments.”) and 2.3a (“The Services and the National Guard Bureau should resource and implement prevention strategies at organizational and community levels,” under POAM milestones 7-15) in the Army. Study findings are also directly related to a number of additional IRC recommendations, including Recommendations 2.1c/2.4/3.2/3.5/3.5a/3.5b/3.6/4.4c/4.4d.

Qualitative data will be collected via focus groups of active-duty Soldiers (under the rank of flag officer) across six CONUS installations. These focus groups cover a number of topics including unit members' understanding of what behaviors constitute SH and GD; factors that contribute to the climate for SH and GD (i.e., risk and protective factors); reporting and intervention by unit members and leaders; and recommendations for what Army prevention training should include. Focus groups will be conducted separately for men and women, officers and enlisted, and by rank (junior, mid-level, and senior). There are a total of six focus group protocols: junior enlisted/officer (E1-E4/O1-O2), mid-level enlisted/officer (E5-E6/O3-O4), and senior enlisted/officer (E7-E9/O5-O6). These focus groups are intended to be 60 minutes. A 30-minute discussion protocol tailored to installation commanders (generally at the O6 level) is also included.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: April 27, 2023.
Aaron T. Siegel,
Alternate OSD Federal Register Liaison Officer, Department of Defense.

[FR Doc. 2023-09638 Filed 5-4-23; 8:45 am]

BILLING CODE 5001-06-P